DEPARTMENT OF TRANSPORTATION

Federal Aviation Administration

14 CFR Part 39

[Docket No. FAA-2010-0487; Directorate Identifier 2010-SW-032-AD; Amendment 39-16295; AD 2010-10-16]

RIN 2120-AA64

Airworthiness Directives; Bell Helicopter Textron (Bell) Model 205A, 205A-1, 205B, 212, 412, 412EP, and 412CF and Agusta S.p.A. (Agusta) Model AB412, AB412EP Helicopters

AGENCY: Federal Aviation Administration, DOT.

ACTION: Final rule; request for comments.

SUMMARY: This amendment adopts a new airworthiness directive (AD) for the Aeronautical Accessories, Inc. (AAI) Low Skid Landing Gear Forward Crosstube (Crosstube) on certain Bell and Agusta model helicopters. This action requires replacing certain AAI serial-numbered crosstubes installed on these model helicopters. This amendment is prompted by the discovery of a defect in the raw material used in manufacturing certain crosstubes. The actions specified in this AD are intended to prevent failure of a crosstube and subsequent collapse of the landing gear.

DATES: Effective June 8, 2010.

Comments for inclusion in the Rules Docket must be received on or before July 23, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Aeronautical Accessories, Inc., P.O. Box 3689, Bristol, Tennessee 37625-3689, telephone (423) 538-5151 or 1-800-251-7094, fax (423) 538-8469.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: DOT/FAA Southwest Region, Martin R. Crane, ASW-170, Aviation Safety Engineer, Rotorcraft Directorate, Rotorcraft Certification Office, 2601 Meacham Blvd., Fort Worth, Texas 76137, telephone (817) 222-5170, fax (817) 222-5783.

SUPPLEMENTARY INFORMATION: This amendment adopts a new AD for the Bell Model 205A, 205A-1, 205B, 212, 412, 412EP, and 412CF and Agusta Model AB412, AB412EP helicopters. This action requires replacing certain AAI serial-numbered crosstubes installed on these model helicopters. This amendment is prompted by AAI's discovery of a defect in a batch of raw material used in the manufacture of these crosstubes. Preliminary tests indicate that surface cracking on the inner wall of the tubing was introduced during the manufacturing process. There have been no failures reported in the field. The defect was discovered during the forming operation at AAI. This condition, if not corrected, could result in failure of a crosstube and subsequent collapse of the landing gear.

We have reviewed AAI Alert Service Bulletin No. AA-10012, dated March 5, 2010 (ASB), which describes a possible defect in the material used to manufacture the crosstube, part number (P/N) 212-320-103, which is also included as part of AAI Low Skid Gear Assembly Kits, P/N 412-320-500 and 412-320-502. The ASB specifies locating the serial number (S/N) of each crosstube, and replacing, within 25 hours time-in-service (TIS), each crosstube within the S/N range of AA-574 through AA-628, by following the replacement procedures contained in the Instructions for Continued Airworthiness AA-01136.

This unsafe condition is likely to exist or develop on other helicopters of these same type designs with an affected crosstube. Therefore, this AD is being issued to prevent failure of a crosstube and subsequent collapse of the landing gear. This AD requires, within 25 hours TIS, replacing any affected crosstube with an airworthy crosstube.

The short compliance time involved is required because the previously described critical unsafe condition can adversely affect the structural integrity of the helicopter. Therefore, replacing any affected crosstube with an airworthy crosstube is required within 25 hours TIS, and this AD must be issued immediately.

Since a situation exists that requires the immediate adoption of this regulation, it is found that notice and opportunity for prior public comment hereon are impracticable, and that good cause exists for making this amendment effective in less than 30 days.

We estimate that this AD will affect 19 helicopters, and replacing each affected crosstube will take about 5 work hours at an average labor rate of $85 per work hour. Required parts will cost about $4,925 per helicopter. Based on these figures, we estimate the total cost impact of the AD on U.S. operators to be $101,650.

Comments Invited

This AD is a final rule that involves requirements that affect flight safety and was not preceded by notice and an opportunity for public comment; however, we invite you to submit any written data, views, or arguments regarding this AD. Send your comments to an address listed under ADDRESSES. Include “Docket No. FAA-2010-0487; Directorate Identifier 2010-SW-032-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11032, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-10-16 Bell Helicopter Textron and Agusta S.P.A.: Amendment 39-16295. Docket No. FAA-2010-0487; Directorate Identifier 2010-SW-032-AD.

Applicability: Bell Helicopter Textron Model 205A, 205A-1, 205B, 212, 412, 412EP, and 412CF and Agusta S.p.A. Model AB412, AB412EP helicopters, certificated in any category, with Aeronautical Accessories, Inc. (AAI) Low Skid Landing Gear Forward Crosstube (Crosstube), part number (P/N) 212-320-103, with a serial number (S/N) prefix of “AA” and an S/N of 574 through 628, installed.

Note 1: Crosstube, P/N 212-320-103, is also included as part of AAI Low Skid Gear Assembly Kits, P/N 412-320-500 and 412-320-502.

Compliance: Required as indicated, unless done previously.

To prevent failure of a crosstube and subsequent collapse of the landing gear, do the following:

(a) Within 25 hours time-in-service, replace any affected crosstube with an airworthy crosstube.

Note 2: AAI Alert Service Bulletin No. AA-10012, dated March 5, 2010, references the AAI Instructions for Continued Airworthiness AA-01136, which contains guidance on replacing the crosstubes.

(b) To request a different method of compliance or a different compliance time for this AD, follow the procedures in 14 CFR 39.19. Contact the Manager, Rotorcraft Certification Office: ATTN: DOT/FAA Southwest Region, Martin R. Crane, ASW-170, Aviation Safety Engineer, Rotorcraft Directorate, Rotorcraft Certification Office, 2601 Meacham Blvd., Fort Worth, Texas 76137, telephone (817) 222-5170, fax (817) 222-5783, for information about previously approved alternative methods of compliance.

(c) The Joint Aircraft System/Component (JASC) Code is 3250: Landing Gear System.

(d) This amendment becomes effective on June 8, 2010.

Issued in Fort Worth, Texas, on May 3, 2010.
Mark R. Schilling,
Acting Manager, Rotorcraft Directorate.

[FR Doc. 2010-11424 Filed 5-21-10; 8:45 am]

BILLING CODE 4910-13-P